DEPARTMENT OF EDUCATION

34 CFR Chapter III

[Docket ID ED-2016-OSERS-0018; CFDA Number: 84.160D.]

Final Priority—Training of Interpreters for Individuals Who Are Deaf or Hard of Hearing and Individuals Who Are Deaf-Blind Program

AGENCY: Office of Special Education and Rehabilitative Services, Department of Education.

ACTION: Final priority.

SUMMARY: The Assistant Secretary for Special Education and Rehabilitative Services announces a final priority under the Training of Interpreters for Individuals Who Are Deaf or Hard of Hearing and Individuals Who Are Deaf-Blind Program. The Assistant Secretary may use this priority for competitions in fiscal year 2016 and later years. We take this action to provide training and technical assistance to better prepare novice interpreters to become highly qualified, nationally certified sign language interpreters.

DATES: This priority is effective September 12, 2016.

FOR FURTHER INFORMATION CONTACT: Kristen Rhinehart-Fernandez, U.S. Department of Education, 400 Maryland Avenue SW., Room 5062, Potomac Center Plaza (PCP), Washington, DC 20202-2800. Telephone: (202) 245-6103 or by email: Kristen.Rhinehart@ed.gov.

If you use a telecommunications device for the deaf (TDD) or a text telephone (TTY), call the Federal Relay Service (FRS), toll free, at 1-800-877-8339.

SUPPLEMENTARY INFORMATION:

Purpose of Program: Under the Rehabilitation Act of 1973 (Rehabilitation Act), as amended by the Workforce Innovation and Opportunity Act (WIOA), the Rehabilitation Services Administration (RSA) makes grants to public and private nonprofit agencies and organizations, including institutions of higher education, to establish interpreter training programs or to provide financial assistance for ongoing interpreter training programs to train a sufficient number of qualified interpreters throughout the country. The grants are designed to train interpreters to effectively interpret and transliterate using spoken, visual, and tactile modes of communication; ensure the maintenance of the interpreting skills of qualified interpreters; and provide opportunities for interpreters to improve their skills in order to meet both the highest standards approved by certifying associations and the communication needs of individuals who are deaf or hard of hearing and individuals who are Deaf-blind.

Program Authority: 29 U.S.C. 772(f).

Applicable Program Regulations: 34 CFR part 396.

We published a notice of proposed priority (NPP) for this competition in the Federal Register on May 6, 2016 (81 FR 27375). That notice contained background information and our reasons for proposing the particular priority.

Public Comment: In response to our invitation in the notice of proposed priority, 25 parties submitted comments on the proposed priority.

We group major issues according to subject. Generally, we do not address technical and other minor changes, or suggested changes the law does not authorize us to make under the applicable statutory authority. In addition, we do not address general comments that raised concerns not directly related to the proposed priority.

Analysis of Comments and Changes: An analysis of the comments and of any changes in the priority since publication of the notice of proposed priority follows.

Specialty Training Supported Through This Priority

Comment: A number of commenters recommended continuing the specialty area training developed in prior grant cycles for deaf-blind interpreting, health care interpreting, legal interpreting, trilingual interpreting in American Sign Language (ASL)/English/Spanish, deaf self-advocacy training (DSAT), interpreting in a Vocational Rehabilitation (VR) setting, interpreting provided by deaf ¹ interpreters, and video remote interpreting and video relay interpreting. The commenters stated that these specialty areas are growing or emerging practice areas and that prior grant cycles only laid the foundation for them. Therefore, commenters recommended the Department of Education (Department) support specialty training in eight specific areas that were funded in prior grant cycles.

¹ As used in this notice, the word “deaf” refers to (1) “deaf” and “Deaf” people, i.e., to the condition of deafness; (2) to “deaf, hard of hearing, and Deaf-Blind”; and (3) to individuals who are culturally Deaf and who use ASL. When we use “Deaf,” we refer only to the third group.

First, commenters supported trilingual interpreting in ASL/English/Spanish and argued that there is still a critical need for more training for interpreters in Spanish-influenced settings. One commenter stated that existing training developed for ASL/English/Spanish is still in its very initial stages and, if continued, has the potential to develop model partnerships that could be replicated into a training process for other spoken languages.

Second, commenters supported continued funding for training for deaf-blind interpreting. They indicated that deaf-blind consumers are one of the least well-served groups and there continues to be a critical need to increase the number of interpreters skilled in this area. For example, one commenter shared that there is a new movement occurring within the deaf-blind community around the concept of “pro-tactile,” which is altering the nature of communication, language, leadership, and interaction, and is one of the new areas in which interpreters need to be skilled to effectively work with individuals who are deaf-blind.

Finally, one commenter stated that the importance of accessible and advanced training for interpreters in healthcare and legal settings is underscored in a report entitled “Preparing Interpreters for Tomorrow: Report on a Study of Emerging Trends in Interpreting and Implications for Interpreter Education.” This report was prepared by a current grantee under this program, the National Interpreter Education Center, Northeastern University, in January 2015. According to this report, interpreters and consumers continue to identify these two specialty areas as areas of priority training needs for interpreters.

Discussion: We agree that there continues to be a critical need for more training in some of the specialty areas funded in the 2010-2016 grant cycle and in earlier cycles. For example, the U.S. Department of Labor predicts that “employment of interpreters and translators is expected to grow 42 percent from 2010 to 2020 and the demand for American Sign Language (ASL) interpreters is expected to grow rapidly. . . .” ² Therefore, we have concluded that applications may be submitted for specialty training areas developed in the 2010-2016 grant cycles for deaf-blind interpreting, health care interpreting, legal interpreting, trilingual interpreting in ASL/English/Spanish, interpreting in a Vocational Rehabilitation (VR) setting, interpreting provided by Deaf interpreters, and video remote interpreting and video relay interpreting.

² Bureau of Labor Statistics, U.S. Department of Labor, Occupational Outlook Handbook, 2012-13 Edition, Interpreters and Translators, on the Internet at www.bls.gov/ooh/media-and-communication/interpreters-and-translators.htm (visited June 3, 2016).

Specific to trilingual interpreting, we also believe there may be parts of the country where multiple languages are spoken by deaf individuals. Therefore, we are permitting applicants to address multiple language combinations in their proposals.

However, we believe it would be an inefficient use of Federal resources to allocate funds to focus solely on replicating rather than scaling up or expanding existing training or to train interpreters where there is no need. Therefore, applicants proposing to provide training in existing specialty areas will be expected to describe how their proposed projects expand on, rather than replicate, existing training in these areas. Applications for training in existing specialty areas will also be expected to specify that they plan to serve areas of the country in which there are not enough interpreters to adequately meet the communication needs of deaf, hard-of-hearing, and deaf-blind consumers.

Changes: We revised Specialty Area 2: Trilingual interpreting that immediately follows the application requirements in the priority to allow applicants to submit proposals for trilingual interpreting in ASL/English/Spanish. We added language to the priority requiring applicants that propose to continue existing training in trilingual interpreting for English/Spanish/ASL to provide evidence to support the demand for trilingual interpreters in English/Spanish/ASL and, to the extent possible, specify areas of the country in which there are not enough trilingual English/Spanish/ASL interpreters to adequate meet the communication needs of Deaf, hard-of-hearing, and Deaf-blind consumers. We also added language that applicants proposing to continue existing training in ASL/English/Spanish without improvement, update, or addition of new material will not be eligible for funding.

We added language to Specialty Area 2 to allow applicants to propose multiple language combinations in their proposals. As such, in this specialty area, we will require applicants to propose a framework that will be used to provide trilingual interpreter training and to develop separate modules for each language in order to ensure the training content appropriately addresses the cultural nuances of each language.

Additionally, we revised Specialty Area 3: Field-initiated projects to allow specialty area training for deaf-blind interpreting, health care interpreting, legal interpreting, interpreting in a Vocational Rehabilitation (VR) setting, interpreting provided by Deaf interpreters, and video remote interpreting and video relay interpreting. We added language requiring that applicants ensure that projects will improve, update, and develop new material for training in these specialty areas. We also added language requiring applicants to demonstrate the demand for interpreters in these specialty areas and, to the extent possible, specify areas of the country in which there are not enough interpreters to adequately meet the communication needs of deaf, hard-of-hearing, and deaf-blind consumers. Finally, we added language that applicants proposing to continue existing training in these areas without improvement, update, or addition of new material will not be eligible for funding.

Comments: A number of commenters recommended the Department continue to fund DSAT, which was funded from 2010 to 2016 and in prior grant cycles. Commenters stated that, while the DSAT curriculum is complete and available online, further efforts are necessary to increase training opportunities and ultimately reach more deaf individuals. Some of these commenters also described DSAT's ability to improve the advocacy skills of a deaf person by helping to understand the role of the interpreter, the right to be provided interpreting services, and the impact interpreting services have on obtaining, maintaining, and advancing in competitive integrated employment as well as in other situations. Several commenters argued that those who have gone through the training can more effectively advocate not only for themselves but also for other deaf consumers including those who have dysfluent language. A commenter stated that DSAT directly ties into enhanced employment outcomes and creates jobs for deaf individuals as trainers and educators in a variety of settings, including secondary and post-secondary education, community-based agencies, and private practice. Finally, a commenter stated that the DSAT curriculum filled a significant gap experienced by educators, VR counselors, and community agency personnel, such as staff from centers for independent living and community rehabilitation programs.

Discussion: We recognize and value DSAT for individuals who are deaf and hard of hearing and individuals who are deaf-blind, but the Department has determined not to continue funding for DSAT. We agree that it is important for deaf consumers to understand their basic legal rights and be equipped with knowledge and confidence in order to effectively communicate their preferred accommodations and make appropriate requests as they transition from secondary education to post-secondary settings and competitive integrated employment. For this program, however, every specialty area project must be focused specifically on interpreting, which DSAT is not. We believe that funding the specialty areas described in this notice will provide interpreters with critically needed skills.

There are other vehicles funded by the Department that protect and advocate for individuals with disabilities, many of which teach self-advocacy skills. For example, the Client Assistance Program (CAP) is designed to advise and inform clients, client applicants, and other individuals with disabilities of all the available services and benefits under the Rehabilitation Act of 1973, as amended, and of the services and benefits available to them under Title I of the Americans with Disabilities Act (ADA). In addition, CAP grantees may assist and advocate for clients and client applicants about projects, programs, and services provided under the Rehabilitation Act. In providing assistance and advocacy under Title I of the Rehabilitation Act, a CAP agency may provide assistance and advocacy about services directly related to employment for the client or client applicant.

The Department also funds Parent Training and Information Centers (PTI centers) authorized under the Individuals with Disabilities Education Act (IDEA). Each State has at least one PTI center to provide training and information to students with disabilities and their families about their rights and services under IDEA. In addition, RSA currently funds seven State and regional PTI centers under section 303(c) of the Rehabilitation Act. All of these PTI centers provide training and information to enable individuals and their families to participate more effectively in meeting the vocational, independent living, and rehabilitation needs of such individuals.

Finally, the Centers for Independent Living authorized under title VII of the Rehabilitation Act and administered by the Department of Health and Human Services provide advocacy services for individuals with disabilities, and the modules developed on DSAT are among the tools they may use to teach deaf consumers to advocate for their rights. The existence of the programs described here, and their ability to use DSAT materials developed in previous grant cycles make it less necessary to continue to support DSAT through this competition.

We also believe that there is sufficient demand in the market for DSAT to sustain the curriculum without Federal investment. Since the DSAT curriculum was unveiled in 2010, more than 2,000 deaf, hard of hearing, and deaf-blind consumers have attended a DSAT consumer training and more than 250 deaf, hard of hearing, and deaf-blind individuals have been trained as DSAT trainers. In 2013, the DSAT curriculum was expanded to include deaf-blind-specific adaptations, and 10 deaf-blind individuals undertook a rigorous four-day deaf-blind self advocacy training (DBSAT) train the trainer course in preparation to provide future DBSAT to their peers.

We agree that the DSAT curriculum fills a significant gap experienced by educators, VR counselors, and community agency personnel, such as staff from centers for independent living and community rehabilitation programs. For example, as part of the Postsecondary Educational Programs Network (pepnet 2) Building State Capacity Summit, the team from Georgia recognized the value of the training materials and focused their five-year plan on improving self-advocacy and self-determination skills among deaf and hard of hearing high school and middle school students across the State. After piloting the project, they have worked closely with DSAT trainers to ensure that the curriculum addressed the needs of the population served. We expect that these and other strategies for using the existing DSAT materials will grow.

Change: None.

Comment: One commenter stated that the proposed priority is unnecessarily narrow and restrictive; needs greater input from more perspectives, especially those of the deaf communities to be served by the funding; and should embrace creativity and innovation. The commenter maintained that, while the emphasis on evidence and data that the proposed priority encourages is important, more evidence to support the proposed priority would have been useful as well.

Discussion: We do not agree that the priority is narrow or restrictive. However, we agree that creativity, innovation, and input from multiple perspectives are important for this program. Accordingly, in addition to the specialty areas the Department specified in this priority, we are also seeking field-initiated projects. While only one report was cited as support in the background section of the notice of proposed priority for this program, we acknowledge there are other works of research in the field of interpreter training that are equally valid. Therefore, for each area of specialty training, applicants may consult and incorporate relevant studies and evidence into their proposals.

Change: None.

Eligibility Requirements

Comments: A few commenters recommended the Department change the requirement in the priority that prevents applicants from submitting different proposals under more than one specialty area.

Another commenter asked whether an application may focus on multiple specialty areas, such as dysfluent language competencies and trilingual interpreting. For example, the commenter stated that for many deaf refugees in the United States, ASL is their first readily accessible language, and it becomes their primary communication choice despite their recent acquisition of this language. These individuals could benefit from interpreters who trained as trilingual interpreters and are familiar with working with dysfluent individuals.

Discussion: We agree that applicants should be able to submit different proposals for different specialty areas. However, the proposed components of the project (i.e., the competencies working interpreters must demonstrate in order to provide high-quality services in the identified specialty area, as well as the design, delivery of training, and evaluation) must be tailored to the specific specialty area. Applications proposing the same content for multiple specialty areas will not be considered.

We also agree that applicants may submit proposals that focus on more than one specialty area. We regard these combined proposals as field-initiated topics that should be submitted under Specialty Area 3.

However, as to the comment suggesting combining dysfluent language competencies and trilingual interpreting, we believe applicants could include trilingual interpreting as a secondary focus for working interpreters along with training in dysfluent language competencies. Applications for this combination should still be submitted under Specialty Area 1.

Changes: We revised the specialty areas that immediately follow the application requirements in the priority in order to allow applicants to submit different proposals under more than one specialty area and to allow applicants to submit proposals that combine areas of specialty training. We added language directing proposals combining areas of specialty training to be submitted under Specialty Area 3: Field-initiated topics.

Under Specialty Area 1, we added language allowing applicants to include trilingual interpreting as a secondary focus for working interpreters who may require both training as trilingual interpreters and gaining familiarity working with dysfluent individuals.

Comment: One commenter recommended removing the proposed eligibility requirement for applicants under “Specialty Area 3: Field-initiated topics” in order to allow topics focused on interpreting for pre-K to grade 12 students. The commenter suggested that one way to address the increase in providing services to deaf individuals with idiosyncratic and dysfluent language is to ensure that educational interpreters working in pre-K to grade 12 have the training and supports they need to effectively serve students.

Discussion: Programs that prepare working interpreters to work in pre-K to grade 12 are not eligible because the focus of this program is to prepare interpreters to work in VR settings. To that end, we chose to limit eligible applicants to those programs that provide training to interpreters in such settings. We acknowledge there is emphasis in the Workforce Innovation and Opportunity Act (WIOA) on providing services and support to transition-age youth. However, the Department has other resources to support programs preparing pre-K to grade 12 personnel. For example, the Department currently funds grant awards under the IDEA Personnel Preparation in Special Education, Early Intervention, and Related Services program to improve the quality and increase the number of personnel who are fully credentialed to serve children, including infants and toddlers, with disabilities, especially in areas of chronic personnel shortage, by supporting projects that prepare special education, early intervention, and related services personnel at the baccalaureate, master's, and specialist levels. More specifically, this program funds a specialty area to serve school-age children with low incidence disabilities by training personnel who serve children with low incidence disabilities, such as visual impairments, hearing impairments, and simultaneous visual and hearing impairments. Projects preparing educational interpreters are eligible under this focus area. For these reasons, we have chosen to limit applicants under this competition to those who train interpreters to work in VR settings.

Change: None.

Comments: Several commenters noted that the priority does not specify entities eligible to apply for funds, such as associate of the arts (AA) programs, associate in applied sciences (AAS) programs, baccalaureate degree ASL-English programs accredited by the Commission on Collegiate Interpreter Education (CCIE), and non-CCIE-accredited baccalaureate degree ASL-English programs. Many commenters recommended that eligible applicants be degree-granting institutions with a demonstrated track record of relationships with relevant stakeholders such as the National Association of the Deaf, Registry of Interpreters for the Deaf, Conference of Interpreter Trainings, and others, as appropriate.

Discussion: Under the statute authorizing this program (section 302(f)(1)(A) of the Rehabilitation Act of 1973, as amended), eligible applicants are States and public or nonprofit agencies and organizations, including American Indian tribes and institutions of higher education, which includes CCIE-accredited and non-CCIE-accredited baccalaureate degree ASL-English programs. We do not believe further clarification in the priority is needed.

As a technical matter, AA/AAS programs are eligible, but the focus of this program is to prepare working interpreters to work in VR settings. To that end, in order to be eligible, applicants must be able to provide training to working interpreters in such settings, and such applicants would typically be institutions granting baccalaureate degrees.

Change: None.

Working Interpreter

Comments: Several commenters recommended expanding the proposed definition of “working interpreter.” One commenter noted that there may be a number of certified, qualified deaf interpreters who would otherwise be successful participants but do not possess a baccalaureate degree in ASL-English interpretation. Other commenters recommended aligning the definition of “working interpreter” with requirements established by the Registry of Interpreters for the Deaf (RID). One commenter indicated RID requires interpreters to possess a baccalaureate degree in order to be eligible for generalist certification, with certain limited exceptions. RID does not currently specify the type of degree a candidate must possess but instead recognizes that any baccalaureate degree represents a liberal arts education that sets a strong foundation of critical thinking and broad world view. Therefore, this commenter suggested the Department create an equivalency determination when the degree requirement would unnecessarily exclude underrepresented populations.

For example, the commenter stated that equivalent alternative criteria that could be allowable in lieu of the educational requirements might include life experience, years of professional experience, and years of education (credit hours) not totaling a formal degree. The commenter noted that RID also accepts continuing education credits in addition to these other requirements in order to satisfy the educational equivalency requirements.

Discussion: We agree that we should expand the definition of “working interpreter” to more closely align with RID requirements. This will avoid unnecessarily limiting the pool of qualified participants and promote participation within projects.

Change: We amended the definition of “working interpreter” in the first paragraph of the final priority to include interpreters with a baccalaureate degree in ASL-English who possess a minimum of three years of relevant experience as an interpreter or equivalence such as relevant professional experience and years of education (credit hours) not equivalent to a formal degree.

Credentials and Certifications

Comments: Some commenters indicated that the priority does not mention credentials that participants must achieve upon successful completion of the training program. One commenter recommended the Department consider other available national-level credentials that are equivalent to credentials awarded by the RID. Another commenter suggested the Department consider State-level certification or licensure, such as the Board for Evaluation of Interpreters (BEI), for certification or licensure to offer interpreting services within the State. One commenter noted that the BEI testing options include basic, advanced, and master's level certification tests, as well as testing in legal interpreting, trilingual interpreting, a certified deaf interpreter test, and a soon-to-be-released medical interpreting test.

Discussion: The priority does not designate a specific certification as a desired outcome for this program, nor does it require participants to achieve a designated certification upon successful completion in the program. However, applicants may choose to award continuing education credits or college or master's level credits to participants in the training program and we encourage applicants to consider doing so.

We believe there is limited information available on the reliability and validity of assessments used by States to confer certifications and licensures. For example, in some cases, an individual pays a fee to receive a license to work as an interpreter in a State, regardless of skill or competency. In other cases, assessments, such as the BEI, are State specific, and there is no information about how the specific levels of skills and competencies they assess compare with the level of skills and competencies required to pass other State-level licensure tests.

Applicants may use national and State-level licensures and certifications, as applicable, to assess participant progress in competency and skill level. Any proposed instruments must be valid and reliable and the applicant must submit a rationale to support the use of each instrument. However, the Department does not consider it appropriate at this time to require all applicants to adopt specific national or State-level certifications or licensures.

Change: None.

Comment: One commenter stated that the priority requires trainers to be certified or recognized in the specialty area of training, but does not believe there is enough data to determine whether there are enough trainers in specialty areas to meet this requirement.

The commenter also does not believe there is data to indicate whether a sufficiently large pool of working interpreters that possess baccalaureate degrees in ASL-English and three years of interpreting experience who also possess competence in the proposed specialty training areas.

This commenter recommended the Department include flexibility on the qualifications of trainers, as well in the definition of “working interpreter.”

Discussion: We believe the priority provides sufficient flexibility on the qualifications of trainers. Under paragraph (b)(2) of the requirements for this program, applicants may identify and partner with trainers who are either certified or recognized in the specialty area through formal or informal certification. If certification is not available in the specialty area, applicants may provide evidence of relevant training and experience (e.g., provide a portfolio that includes training verification, video samples, letters of support from consumers and employers, etc.).

As stated earlier, we have also amended the definition of “working interpreter” to include interpreters with a baccalaureate degree in ASL-English who possess a minimum of three years of relevant experience as an interpreter or equivalence such as relevant professional experience, and years of education (credit hours) not totaling a formal degree.

Change: None.

Project Requirements

Comment: One commenter asked the Department to clarify the baseline numbers against which “increased” numbers will be measured for project outcomes (i.e. an increase in the number of interpreters who are trained to work with deaf consumers who require specialized interpreting and an increase in the number of interpreters trained in specialty areas who obtain or advance in employment in the areas for which they were prepared).

Discussion: We intend for applicants to provide baseline data in their applications for the actual or estimated number of working interpreters currently trained in a specialty area. We acknowledge that baseline numbers may not be available to applicants proposing to develop training in topics that address new specialty areas. In those cases, we will accept zero as a baseline, provided that the applicants adequately explain the lack of data to establish a baseline. We also expect applicants to provide a target number of new working interpreters that will be trained in a specialty area.

Change: We added a new paragraph (a)(2) to the requirements to clarify baseline and target data that must be included in the application.

Comments: One commenter recommended that the Department clarify the purpose of the coordination and communication requirement in paragraph (c)(10)(iv)(B). For example, one commenter asked if this requirement allows applicants to interact with specific projects funded by the Department, such as the IDEA Personnel Development to Improve Services and Results for Children with Disabilities Program, which can support projects focused on K-12 interpreting.

One commenter recommended interaction with other Department-funded projects and stated that dysfluent language evident in deaf adults can be traced, in part, to inadequate language models early in life. According to this commenter, coordination of interpreter education efforts between children and adults could be a key step to addressing dysfluency among future Deaf generations.

Discussion: We intended for the language in requirement (c)(10)(iv)(B) to mean that grantees would communicate, coordinate, and collaborate with other Department-funded projects for the purposes of exchanging relevant information such as outcome data and promising practices, as well as disseminating training material and products developed under this program. Applicants may also communicate, coordinate, and collaborate with other Department-funded projects for the purposes of informing, improving, and strengthening training developed under this program. The priority does not require formal relationships (e.g., memoranda of understanding) with other Department-funded projects.

We will not further specify how this communication, collaboration, or coordination will occur because we believe applicants are well suited to make this determination.

Change: None.

Comment: One commenter asked for clarification of the second paragraph under the proposed priority concerning whether pre-service training is an allowable project activity. The commenter suggested the Department consider allowing the development of content for pre-service training because it could have a positive long-term impact on the quality of interpreting.

Discussion: Pre-service training is not the focus of this priority. The priority states that applicants may develop a new training program or stand-alone modules that could also be incorporated into an existing baccalaureate degree ASL-English program. Applicants are expected to develop and deliver training of sufficient scope, intensity, and duration for working interpreters to achieve increased skill, knowledge, and competence in a specialty area. However, applicants may consider a variety of resources (such as available pre-service training material) that may inform, support, or strengthen the development of training for English-ASL interpreter training in specialized areas. As a result of new training curricula established through this program, pre-service training modules could be developed as a “feeder” into existing baccalaureate degree ASL-English programs.

Change: None.

Comment: One commenter suggested that project timelines be proposed, but not required, in the priority. The commenter reasoned that the requirement to develop training materials and curricula in a single year and then implement them over the following four years is not unreasonable but noted that, with a focus on new specialty training areas, a complete curriculum could require two or more years to develop. The commenter also recommended that the timeline in each application be reviewed on its own merits. For example, an application to address training in a new specialty area may require more time, funding, and extended collaboration to fully develop a curriculum. On the other hand, an application that demonstrates the intention of building on, enhancing, or significantly revising a previously developed curriculum might be completed more quickly.

Discussion: We agree that an application to address training in a new specialty area may require more time to fully develop a curriculum. Therefore, if applicants determine additional time may be necessary to fully develop a curriculum and obtain input and feedback from key partners, relevant stakeholders, and consumers, they must provide adequate justification in their application.

Change: In the final priority we have added that applicants must provide adequate justification in their application if they determine additional time may be necessary to fully develop a curriculum and obtain input and feedback from key partners, relevant stakeholders, and consumers.

Administration of the Grants

Comment: One commenter suggested the Department award these projects as cooperative agreements rather than grants. Another commenter stated that implementing a cooperative agreement for this funding would be a positive strategy to monitor quality and achievement of proposed goals. This commenter further stated that providing transparent decision-making by RSA, with open and explicit rationales for funding choices and re-funding choices, is needed in order to insure that an evaluation is effectively conducted and that funds are awarded (or withheld) based on evidence of effective program management. This commenter urged the Department to require transparent reporting by, and evaluation of, the grantee that is easily and quickly accessible and that encourages public input at every evaluation point, in order to help insure that such evaluation is incorporated and integrated throughout.

Discussion: The priority does not specify whether these projects would be awarded as cooperative agreements. The Department has flexibility to make this determination, and we will announce that decision in the notice inviting applications. As to the commenter's recommendation that the Department involve the public in reporting by grantees and evaluation of the projects, the Department already has established processes and procedures for monitoring project performance. Further, the Notice Inviting Applications will specify annual and final reporting requirements and performance measures.

The Department is committed to transparency and will make available to the public abstracts of successful applications. Products produced as a result of these grants will be made available to the public through the National Clearinghouse of Rehabilitation Training Materials.

Change: None.

Final Priority: This notice contains one final priority.

Interpreter Training in Specialty Areas.

Final Priority: The purpose of this priority is to fund projects that provide training for English-American Sign Language (ASL) interpreter training in specialty areas. The training must be provided to working interpreters (e.g., interpreters with a baccalaureate degree in ASL-English who possess a minimum of three years of relevant experience as an interpreter or equivalence such as relevant professional experience, and years of education (credit hours) not totaling a formal degree) who need to develop a new skill area or enhance an existing skill area. Within this final priority, the Assistant Secretary intends to fund training in the following specialty areas: (1) Interpreting for consumers with dysfluent language competencies (e.g., individuals who use idiosyncratic signs or display limited first language competency in either spoken or sign language, due to delayed acquisition of the first language); (2) trilingual interpreting (e.g., language fluency in first, second, and third languages with one of the three languages being ASL); and (3) field-initiated topics.

During the project, applicants must develop and deliver training of sufficient scope, intensity, and duration for working interpreters to achieve increased skill, knowledge, and competence in a specialty area. Applicants may develop a new training program or stand-alone modules that could also be incorporated into an existing baccalaureate degree ASL-English program. The training program or modules must be developed by the end of the first year of the project period and delivered in years two, three, four, and five of the project period. Applicants must provide adequate justification in their application if they determine additional time may be necessary to fully develop a curriculum and obtain input and feedback from key partners, relevant stakeholders, and consumers.

The projects must be designed to achieve, at a minimum, the following outcomes:

(a) An increase in the number of interpreters who are trained to work with deaf consumers who require specialized interpreting; and

(b) An increase in the number of interpreters trained in specialty areas who obtain or advance in employment in the areas for which they were prepared.

To be considered for funding, applicants must meet the requirements contained in this final priority, which are as follows:

(a) Demonstrate, in the narrative section of the application under “Significance of the Project,” how the proposed project will address the need for sign language interpreters in a specialty area. To address this requirement, applicants must:

(1) Present applicable data demonstrating the need for interpreters in the specialty area for which training will be developed by the project in at least three distinct, noncontiguous geographic areas, which may include the U.S. Territories;

(2) Present baseline data for the number or estimated number of working interpreters currently trained in a specialty area. In the event that an applicant proposes training in a new specialty area that does not currently exist or for which there are no baseline data, the applicant should provide an adequate explanation of the lack of reliable data and may report zero as a baseline;

(3) Explain how the project will increase the number of working interpreters in a specialty area who demonstrate the necessary competencies to meet the communication needs of individuals who are deaf, hard of hearing, or deaf-blind. To meet this requirement, the applicant must—

(i) Identify competencies that working interpreters must demonstrate in order to provide high-quality services in the identified specialty area using practices that are promising or based on instruction supported by evidence and intervention, when available; and

(ii) Demonstrate that the identified competencies are based on practices that are promising or supported by evidence that will result in effectively meeting the communication needs of individuals who are deaf, hard of hearing, or deaf-blind.

(b) Demonstrate, in the narrative section of the application under “Quality of Project Design,” how the proposed project will—

(1) Provide training in person or remotely to at least three distinct, noncontiguous geographic areas identified in paragraph (a)(1);

(2) Identify and partner with trainers who are certified and recognized in the specialty area through formal or informal certification to develop and deliver the training. If certification is not available in the specialty area, provide evidence of relevant training and experience (e.g., provide a portfolio that includes training verification, video samples, letters of support from consumers and employers, etc.);

(3) Be based on current research and make use of practices that are promising or supported by evidence. To meet this requirement, the applicant must describe—

(i) How the proposed project will incorporate current research and practices that are promising or supported by evidence in the development and delivery of its products and services;

(ii) How the proposed project will engage working interpreters with different learning styles; and

(iii) How the proposed project will ensure that working interpreters interact with deaf individuals who have a range of communication skills, from those with limited language skills to those with high-level, professional language skills.

(c) In the narrative section of the application under “Quality of Project Services,” the applicant must—

(1) Demonstrate how the project will ensure equal access and treatment for eligible project participants who are members of groups who have traditionally been underrepresented based on race, color, national origin, gender, age, or disability;

(2) Describe the criteria that will be used to identify high-quality applicants for participation in the program, including any pre-assessments that may be used to determine the skill, knowledge base, and competence of the working interpreter;

(3) Describe the recruitment strategies the project will use to attract high-quality working interpreters, including specific strategies targeting high-quality participants from traditionally underrepresented groups (e.g., individuals with disabilities and individuals living in remote areas);

(4) Describe how the project will ensure that all training activities and materials are fully accessible;

(5) Describe the approach that will be used to enable more working interpreters to participate in and successfully complete the training program, specifically participants who need to work while in the program, have child care or elder care considerations, or live in geographically isolated areas. The approach must emphasize innovative instructional delivery methods, such as distance learning or block scheduling (a type of academic scheduling that offers students fewer classes per day for longer periods of time), which would allow working interpreters to more easily participate in the program;

(6) Describe the approach that will be used to enable working interpreters to successfully complete the program or stand-alone modules, to include mentoring, monitoring, and accommodation support services;

(7) Describe how the project will incorporate practices that are promising and supported by evidence for adult learners;

(8) Demonstrate how the project is of sufficient scope, intensity, and duration to adequately prepare working interpreters in the identified specialty area of training. To address this requirement, the applicant must describe how—

(i) The components of the proposed project will support working interpreters' acquisition and enhancement of the competencies identified in paragraph (a)(2)(i);

(ii) The components of the project will allow working interpreters to apply their content knowledge in a practical setting;

(iii) The proposed project will provide working interpreters with ongoing guidance and feedback; and

(iv) The proposed project will provide ongoing induction opportunities and support working interpreters after completion of the specialty area program.

(9) Demonstrate how the proposed project will actively engage representation from consumers, consumer organizations, and service providers, especially vocational rehabilitation (VR) agencies, interpreters, interpreter training programs, and individuals who are deaf and deaf-blind in the project, including project development, design, implementation, delivery of training, dissemination, sustainability planning, program evaluation, and other relevant areas as determined by the applicant;

(10) Describe how the project will conduct dissemination and coordination activities. To meet this requirement, the applicant must—

(i) Describe its plan for disseminating information to and coordinating with VR agencies, American Job Centers and other workforce partners regarding finding interpreters with the specialized interpreting skills needed; disseminating information to working interpreters about training available in the specialty area, and broadly disseminating successful strategies for preparing working interpreters in a specialty area;

(ii) Describe its strategy for disseminating products developed during the project period. To meet this requirement the applicant must—

(A) Develop and maintain a state-of-the-art archiving and dissemination system that is open and available to the public and provides a central location for later use of training materials, including curricula, audiovisual materials, Webinars, examples of emerging and promising practices, and any other relevant material;

(B) Provide a minimum of three Webinars or video conferences over the course of the project. Applicants may determine the audience, content, and goals of this activity. For instance, applicants may consider disseminating information to working interpreters not enrolled in the program about training in a specialty area, as well as interacting with interpreter educators about the curriculum or training module design, challenges, solutions, and results achieved.

Note: All products produced by the grantees must meet government- and industry-recognized standards for accessibility, including section 508 of the Rehabilitation Act.

(iii) Describe its approach for incorporating the use of information technology (IT) into all aspects of the project. The approach must include establishing and maintaining a state-of-the-art IT platform that is sufficient to support Webinars, teleconferences, video conferences, and other virtual methods of dissemination of information.

Note: In meeting the requirements mentioned in paragraphs (c)(10)(ii)(A) and (B) and (c)(10)(iii) above, projects may either develop new platforms or systems or may modify existing platforms or systems, so long as the requirements of this priority are met.

(iv) Describe its approach for conducting coordination and collaboration activities. To meet this requirement, the applicant must—

(A) Establish a community of practice ³ in the specialty area of training that focuses on project activities in this priority and acts as a vehicle for communication and exchange of information among participants in the program and other relevant stakeholders;

³ A community of practice (CoP) is a group of people who work together to solve a persistent problem or to improve practice in an area that is important to them and who deepen their knowledge and expertise by interacting on an ongoing basis. CoPs exist in many forms, some large in scale that deal with complex problems, others small in scale that focus on a problem at a very specific level. For more information on communities of practice, see: www.tadnet.org/pages/510.

(B) Communicate, collaborate, and coordinate with other relevant Department-funded projects, as applicable;

(C) Maintain ongoing communication with the RSA project officer and other RSA staff as required; and

(D) Communicate, collaborate, and coordinate, as appropriate, with key staff in State VR agencies, such as the State Coordinators for the Deaf; State and local partner programs; consumer organizations and associations, including those that represent individuals who are deaf, hard of hearing, deaf-blind, and late deafened; and relevant RSA partner organizations and associations.

(d) In the narrative section of the application under “Quality of the Evaluation Plan,” include an evaluation plan for the project. To address this requirement, the evaluation plan must describe—

(1) An approach, using pre- and post-assessments, for assessing the level of knowledge, skills, and competencies gained among participants;

(2) An approach for assessing the application of knowledge, skills, and competencies after completion; and

(3) An approach for incorporating oral and written feedback from trainers, from deaf consumers, and any feedback from mentoring sessions conducted with the participants;

(4) Evaluation methodologies, including instruments, data collection methods, and analyses that will be used to evaluate the project;

(5) Measures of progress in implementation, including the extent to which the project's activities and products have reached their target populations; intended outcomes or results of the project's activities in order to evaluate those activities; and how well the goals and objectives of the proposed project, as described in its logic model,⁴ have been met;

⁴ A logic model communicates how the project will achieve its intended outcomes and provides a framework for both the formative and summative evaluations of the project.

(6) How the evaluation plan will be implemented and revised, as needed, during the project. The applicant must designate at least one individual with sufficient dedicated time, experience in evaluation, and knowledge of the project to coordinate the design and implementation of the evaluation. For example, coordination with any identified partners in the application and RSA to make revisions post award to the logic model in order to reflect any changes or clarifications to the model and to the evaluation design and instrumentation with the logic model (e.g., designing instruments and developing quantitative or qualitative data collections that permit collecting of progress data and assessing project outcomes);

(7) The standards and targets for determining effectiveness of the project;

(8) How evaluation results will be used to examine the effectiveness of implementation and the progress toward achieving the intended outcomes; and

(9) How the methods of evaluation will produce quantitative and qualitative data that demonstrate whether the project activities achieved their intended outcomes.

(e) Demonstrate, in the narrative section of the application under “Adequacy of Project Resources,” how—

(1) The proposed project will encourage applications for employment with the project from persons who are members of groups that have historically been underrepresented based on race, color, national origin, gender, age, or disability;

(2) The proposed project personnel, consultants, and subcontractors have the qualifications and experience to provide training to working interpreters and to achieve the project's intended outcomes;

(3) The applicant and any identified partners have adequate resources to carry out the proposed activities; and

(4) The proposed costs are reasonable in relation to the anticipated results and benefits;

(f) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks.

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, especially relevant partners, groups, and organizations described throughout this notice, in its development and operation.

(g) Address the following application requirements. The applicant must—

(1) Include, in Appendix A, a logic model that depicts, at a minimum, the goals, activities, outputs, and intended outcomes of the proposed project;

(2) Include, in Appendix A, person-loading charts and timelines, as applicable, to illustrate the management plan described in the narrative; and

(3) Include, in the budget, attendance at a one-day intensive review meeting in Washington, DC, during the third quarter of the third year of the project period.

Specialty Areas

With this final priority, the Secretary intends to fund four national projects in the following specialty areas: (1) Interpreting for consumers with dysfluent language competencies (e.g., individuals who use idiosyncratic signs or display limited first language competency in either spoken or sign language, due to delayed acquisition of the first language); (2) trilingual interpreting (e.g., language fluency in first, second, and third languages with one of the three languages being ASL); and (3) field-initiated topics. Applicants must identify the specific focus area (1, 2, or 3) under which they are applying as part of the competition title on the application cover sheet (SF form 424, line 4).

Applicants may submit proposals under one or more specialty area. Applications proposing the same content for different specialty areas will not be considered.

Applicants may combine more than one specialty and these applications must be submitted under Specialty Area 3: Field-initiated topics.

Specialty Area 1: Interpreting for Consumers With Dysfluent Language Competencies

Interpreting for deaf and hard of hearing, and deaf-blind consumers with dysfluent language competencies include: (1) Those with limited, idiosyncratic, or differing levels of first and second language fluency in English and ASL); (2) those who have families using non-English spoken languages at home and have limited or no fluency in English and ASL; and (3) those with cognitive and physical disabilities that impact linguistic competencies. Under this specialty area, applicants may include trilingual interpreting as a secondary focus for working interpreters who may require both training as trilingual interpreters and gaining familiarity working with dysfluent individuals.

Specialty Area 2: Trilingual Interpreting

Trilingual interpreting is interpreting between three different languages; that is, two spoken languages such as English and Spanish, and ASL. This requires a working interpreter to be competent in three different languages and seamlessly facilitate communication between those languages in real time. RSA is seeking to fund similar projects in trilingual interpreting that includes languages that may be spoken in the United States. Applications may address multiple language combinations. In this instance, applicants must propose a framework that will be used to provide trilingual interpreter training. Applicants must develop separate modules for each language and ensure the training content appropriately addresses the cultural nuances of the language.

Applicants that choose to focus on trilingual interpreting in English/Spanish/ASL must propose to improve, update, and develop new material to support existing specialty training in this area. Applicants must describe in their application specific improvements, updates, and new material to be developed and provide rationale for why this is needed. Applicants must provide evidence to support the demand for trilingual interpreters in English/Spanish/ASL and, to the extent possible, specify areas of the country in which there are not enough trilingual English/Spanish/ASL interpreters to adequate meet the communication needs of Deaf, hard-of-hearing, and Deaf-blind consumers.

Trilingual interpreting in English/Spanish/ASL that proposes only to continue existing training developed during the 2010-2016 grant cycle or earlier cycles is not eligible under this priority.

Specialty Area 3: Field-Initiated Topics

Field-initiated topics that address the needs of working interpreters to acquire specialized knowledge and competencies. These topics may address new specialty areas that require development of training modules of sufficient intensity, duration, and scope of sequence to warrant funding of an entire grant. Proposed topics may also replace training in an established specialty area that is no longer relevant. For instance, applicants may propose new or updated training, such as interpreting in a VR setting given reauthorization of the Rehabilitation Act, as amended, by WIOA. Applicants may also propose new subsets of training in established specialty areas. For instance, in health care interpreting, mental health might be one permissible subset of training because it has its own unique challenges and complexities in terms of setting and deaf consumer needs. In addition, applicants must provide sufficient evidence to demonstrate the need for the proposed new specialty training project or to show that an existing specialty training project is not adequately meeting the training needs of interpreters in order to better meet the linguistic and communication needs of deaf, hard-of-hearing, and deaf-blind consumers.

Applicants may also propose to enhance existing training developed in prior grant cycles for deaf-blind interpreting, health care interpreting, legal interpreting, interpreting in a VR setting, interpreting provided by Deaf interpreters, and video remote interpreting and video relay interpreting. In this instance, applicants must propose to improve, update, and develop new material to support existing specialty training in these areas. Applicants must describe in their application specific improvements, updates, and new material to be developed and provide rationale for why this is needed. Applicants must demonstrate the demand for interpreters in these existing specialty areas and, to the extent possible, specify areas of the country in which there are not enough trained interpreters to adequately meet the communication needs of deaf, hard-of-hearing, and deaf-blind consumers.

Applications that propose only to continue existing training in these areas are not eligible for funding. Additional field-initiated topics not eligible under this final priority include topics focusing on educational interpreting for pre-k-12 and deaf self-advocacy training.

Note: The Secretary intends to fund a total of four projects in FY 2016 that have been awarded at least eighty-percent of the maximum possible points, including at least one project from each of the three specialty areas. As a result, the Secretary may fund applications out of rank order.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that: the public understands the Department's collection instructions, respondents can provide the requested data in the desired format, reporting burden (time and financial resources) is minimized, collection instruments are clearly understood, and the Department can properly assess the impact of collection requirements on respondents.

This final priority contains information collection requirements that are approved by OMB under the National Interpreter Education program 1820-0018; this final priority does not affect the currently approved data collection.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Through this priority, training will be provided to working interpreters for English-ASL interpreter training in specialty areas. These activities will help interpreters to more effectively meet the communication needs of individuals who are deaf or hard of hearing and individuals who are Deaf-blind. The training ultimately will improve the quality of VR services and the competitive integrated employment outcomes achieved by individuals with disabilities. This priority will promote the efficient and effective use of Federal funds.

Intergovernmental Review: This program is subject to Executive Order 12372 and the regulations in 34 CFR part 79. One of the objectives of the Executive order is to foster an intergovernmental partnership and strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site, you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 9, 2016.
Sue Swenson,
Acting Assistant Secretary for Special Education and Rehabilitative Services.

[FR Doc. 2016-19273 Filed 8-11-16; 8:45 am]

BILLING CODE 4000-01-P